NATIONAL AERONAUTICS AND SPACE ADMINISTRATION

[Notice 04-125]

Notice of Prospective Patent License

AGENCY: National Aeronautics and Space Administration.

ACTION: Notice of prospective patent license.

SUMMARY: NASA hereby gives notice that JMAR Technologies, Inc., of Carlsbad, California, has applied for a partially exclusive license to practice the invention described and claimed in U.S. Patent No. 6,313,908, entitled “Apparatus and method using a holo-graphic optical element for converting a spectral distribution to image points,” which is assigned to the United States of America as represented by the Administrator of the National Aeronautics and Space Administration. Written objections to the prospective grant of a license should be sent to NASA Goddard Space Flight Center. NASA has not yet made a determination to grant the requested license and may deny the requested license even if no objections are submitted within the comment period.

DATES: Responses to this notice must be received by November 29, 2004.

FOR FURTHER INFORMATION CONTACT: Keith Dixon, NASA Goddard Space Flight Center, Code 503, Greenbelt, MD 20771, (301) 286-9279.

Dated: October 22, 2004.
Keith T. Sefton,
Deputy General Counsel (Administration and Management).

[FR Doc. 04-25125 Filed 11-10-04; 8:45 am]

BILLING CODE 7510-13-P